DEPARTMENT OF LABOR

Employment and Training Administration

[TA-W-56,034]

Mundy Maintenance Services and Operations, LLC Employed at UNIFI-Kinston, LLC Kinston, North Carolina; Notice of Termination of Investigation

Pursuant to section 221 of the Trade Act of 1974, an investigation was initiated on November 18, 2004 in response to a petition filed by a company official on behalf of workers at Mundy Maintenance, Services and Operations, LLC, employed at Unifi-Kinston, LLC, Kinston, North Carolina.

The petitioning group of workers is covered by an active certification, (TA-W-55,977) which expires on December 9, 2006. Consequently, further investigation in this case would serve no purpose, and the investigation has been terminated.

Signed in Washington, DC, this 15th day of December, 2004.
Richard Church,
Certifying Officer, Division of Trade Adjustment Assistance.

[FR Doc. E5-261 Filed 1-25-05; 8:45 am]

BILLING CODE 4510-30-P